DEPARTMENT OF ENERGY

Federal Energy Regulatory Commission

[Docket No. EL01-2-000]

Notice of Amendment to Complaint

November 16, 2000.

Californians for Renewable Energy, Inc. (CARE), Complainant v. Independent Energy Producers, Inc. and All Sellers of Energy and Ancillary Services Into the Energy and Ancillary Services Markets Operated by the California Independent System Operator Corporation and the California Power Exchange; All Scheduling Coordinators Acting On Behalf of the Above Sellers; California Independent System Operator Corporation; and California Power Exchange Corporation, Respondents; Notice of Amendment to Complaint.

Take notice that on October 31, 2000, Californians for Renewable Energy, Inc. (CARE) filed an amendment to their Complaint filed in the above-referenced proceeding on October 6, 2000.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions and protests must be filed on or before November 30, 2000. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222 for assistance). Answers to the amendment of the complaint shall also be due on or before November 30, 2000. Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-29866 Filed 11-21-00; 8:45 am]

BILLING CODE 6717-01-M